COMMITTEE FOR PURCHASE FROM PEOPLE WHO ARE BLIND OR SEVERELY DISABLED

Procurement List Proposed Additions and Deletions

AGENCY: Committee for Purchase From People Who Are Blind or Severely Disabled.

ACTION: Proposed Additions to and Deletions from the Procurement List.

SUMMARY: The Committee is proposing to add a product and service to the Procurement List that will be furnished by nonprofit agencies employing persons who are blind or have other severe disabilities and to delete the products previously furnished by such agency.

Comments Must Be Received ON OR Before: 12/20/2010.

ADDRESSES: Committee for Purchase From People Who Are Blind or Severely Disabled, Jefferson Plaza 2, Suite 10800, 1421 Jefferson Davis Highway, Arlington, Virginia, 22202-3259.

For Further Information or To Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the product and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and service to the Government.

2. If approved, the action will result in authorizing small entities to furnish the product and service to the Government.

3. There are no known regulatory alternatives which would accomplish the objectives of the Javits-Wagner-O'Day Act (41 U.S.C. 46-48c) in connection with the product and service proposed for addition to the Procurement List.

Comments on this certification are invited. Commenters should identify the statement(s) underlying the certification on which they are providing additional information.

End of Certification

The following product and service are proposed for addition to Procurement List for production by the nonprofit agencies listed:

Product

NSN: 7350-00-838-3919—Toothpicks.

NPA: Volunteers of America, Dakotas, Sioux Falls, SD.

Contracting Activity: GSA/Federal Acquisition Service, Fort Worth, TX.

Coverage: B-List for the Broad Government Requirement as aggregated by the General Services Administration.

Service

Service Type/Location: Base Supply Center, Federal Energy Regulatory Commission, 888 First Street, NE., Washington, DC.

NPA: Winston-Salem Industries for the Blind, Winston-Salem, NC.

Contracting Activity: Federal Energy Regulatory Commission, Division of Procurement, Washington, DC.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products Dispenser, Glue Tape & Refill Cartridge

NSN: 8040-01-441-0169.

NSN: 8040-01-441-0173.

NSN: 8040-01-441-0175.

NSN: 8040-01-441-0178.P>NPA: Industries for the Blind, Inc., West Allis, WI.

Contracting Activities: GSA/FAS, FSS Regional Fleet Management Office, Kansas City, MO. GSA/FAS, FSS Tools Acquisition Division II, Kansas City, MO.

Barry S. Lineback,
Director, Business Operations.

[FR Doc. 2010-29242 Filed 11-18-10; 8:45 am]

BILLING CODE 6353-01-P